DEPARTMENT OF COMMERCE

International Trade Administration

Initiation of Antidumping and Countervailing Duty Administrative Reviews and Requests for Revocations in Part

AGENCY: Import Administration, International Trade Administration, Department of Commerce.

ACTION: Notice of initiation of antidumping and countervailing duty administrative reviews and requests for revocations in part.

SUMMARY: The Department of Commerce has received requests to conduct administrative reviews of various antidumping and countervailing duty orders and findings with May anniversary dates. In accordance with the Department's regulations, we are initiating those administrative reviews. The Department of Commerce also received requests to revoke four antidumping duty orders in part.

EFFECTIVE DATE: July 7, 2000.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b) (1999), for administrative reviews of various antidumping and countervailing duty orders and findings with May anniversary dates. The Department also received timely requests to revoke in part the antidumping duty orders on Ball Bearings and Cylindrical Roller Bearings from France, Polyvinyl Alcohol from Taiwan, and Ball Bearings from the United Kingdom.

Initiation of Reviews

In accordance with 19 CFR 351.221(c)(1)(i), we are initiating administrative reviews of the following antidumping and countervailing duty orders and findings. We intend to issue the final results of these reviews not later than May 31, 2001.

Antidumping duty proceedings | Period to be reviewed
Belgium: Stainless Steel Plate in Coils, A-423-808:
ALZ, N.V. | 11/4/98-4/30/00
Brazil: Frozen Concentrated Orange Juice, A-351-605:
Citrovita Agro Industrial Ltda/Cambuhy MC Industrial Ltda/Cambuhy Citrus Comercial e Exportadora | 5/1/99-4/30/00
Branco Peres Citrus S.A.
CTM Citrus S.A.
Sucorrico S.A.
Indonesia: Extruded Rubber Thread, A-560-803:
PT Swasthi Parama Mulya | 5/12/99-4/30/00
Italy: Stainless Steel Plate in Coils, A-475-822:
Acciai Speciali Terni S.p.A. | 11/4/98-4/30/00
Japan: Polyvinyl Alcohol, A-588-836:
Kuraray Co., Ltd. | 5/1/99-4/30/00
Republic of Korea: DRAMs, A-580-812:
LG Semicon Co., Ltd. | 5/1/99-4/30/00
Hyundai Electronics Industries Co.
G5 Corporation
Wooyang Industry Co.
Kim's Marketing
Jewon Trading
Kae Won Microelectronics
Techsan Electronics
Republic of Korea: Stainless Steel Plate in Coils, A-580-831:
Pohang Iron & Steel Co., Ltd. | 11/4/98-4/30/00
South Africa: Stainless Steel Plate in Coils, A-791-805:
Columbus Stainless Steel Company | 11/4/98-4/30/00
Taiwan: Stainless Steel Plate in Coils, A-583-830:
Ta Chen Stainless Pipe Co., Ltd. | 11/4/98-4/30/00
Yieh United Steel Corporation.
Taiwan: Polyvinyl Alcohol, A-583-824:
Chang Chun Petrochemical Co., Ltd. | 5/1/99-4/30/00
Turkey: Certain Steel Concrete Reinforcing Bars, A-489-807:
Diler Demir Celik Endustrisi ve Ticaret A.S. ¹ | 4/1/99-3/31/00
¹ Inadvertently omitted from previous initiation notice.

Anti-friction bearings proceedings and firms ² | Period/class or kind
France: A-427-801 | 5/1/99-4/30/00
SKF France S.A. (including all relevant affiliates) | Ball & Spherical
Societe Nouvelle de Roulements (SNR) | Ball & Cylindrical
SNFA S.A./Somecat S.p.A. (including all relevant affiliates) | Cylindrical
Alfateam | Ball
Alpha-Team | Do.
Bearing Discount International GmbH | Do.
Motion Bearings Pte Ltd | Do.
Yoo Shin Commercial Company Ltd | Do.
Rodamientos Rovi | Do.
Rovi-Valencia | Do.
Rovi-Marcay | Do.
Representaciones Industriales Rodrigues, S.A | Do.
DCD Ball | Do.
EuroLatin Exnport Services Ltd | Do.
Germany: A-428-801 | 5/1/99-4/30/00
Cerobear GmbH | Ball & Cylindrical
FAG Kugelfischer George Schaefer AG (including all relevant affiliates) | Do.
INA Walzlager Schaeffler KG | Cylindrical
SKF GmbH (including all relevant affiliates) | Ball & Cylindrical
SNR | Do.
Torrington Nadellager GmbH | Do.
Alfateam | Do.
Alpha-Team | Do.
Bearing Discount International GmbH | Do.
Motion Bearings Pte Ltd | Do.
Yoo Shin Commercial Company Ltd | Do.
Rodamientos Rovi | Do.
Rovi-Valencia | Do.
Rovi-Marcay | Do.
Representaciones Industriales Rodrigues, S.A. | Do.
DCD | Do.
EuroLatin Export Services Ltd | Do.
Italy: A-475-801 | 5/1/99-4/30/00
FAG Italia S.p.A. (including all relevant affiliates) | Ball & Cylindrical
SOMECAT S.p.A./SNFA Italy (including all relevant affiliates) | Ball
Alfateam | Ball
Alpha-Team | Do.
Bearing Discount International GmbH | Do.
Motion Bearings Pte Ltd | Do.
Yoo Shin Commercial Company Ltd | Do.
Rodamientos Rovi | Do.
Rovi-Valencia | Do.
Rovi-Marcay | Do.
Representaciones Industriales Rodrigues, S.A | Do.
DCD | Do.
EuroLatin Export Services Ltd | Do.
Japan: A-588-804 | 5/1/99-4/30/00
Koyo Seiko Co., Ltd | All
Sapporo Precision Inc | Do.
NSK Ltd. (formerly Nippon Seiko K.K.) | Ball & Cylindrical
NTN Corporation | All
Inoue Jikuuke Kogyo Co., Ltd. (IJK) | Ball
Izumoto Seiko Co., Ltd. (IKS) | Do.
Muro Corporation | Do.
(Initiation of 5/1/98-4/30/99 review deferred, 64 FR 35124, 6/30/99)
Romania: A-485-801 | 5/1/99-4/30/00
S.C. Koyo Romania S.A. | Ball
Singapore: A-559-801 | 5/1/99-4/30/00
NMB Singapore Ltd./Pelmec Industries (Pte.) Ltd | Ball
Sweden: A-401-801 | 5/1/99-4/30/00
SKF Sverige AB (including all relevant affiliates) | Ball
Alfateam Ball | Do.
Alpha-Team | Do.
Bearing Discount International GmbH | Do.
Motion Bearings Pte Ltd | Do.
Yoo Shin Commercial Company Ltd | Do.
Rodamientos Rovi | Do.
Rovi-Valencia | Do.
Rovi-Marcay | Do.
Representaciones Industriales Rodrigues, S.A | Do.
DCD | Do.
EuroLatin Export Services Ltd | Do.
The United Kingdom: A-412-801 | 5/1/99-4/30/00
NSK Bearings Europe Ltd./RHP Bearings Ltd | Ball & Cylindrical
Barden Corporation | Do.
SNFA Bearings Limited/Somecat S.P.A. (including all relevant affiliates) | Ball
SNR Roulements | Ball & Cylindrical
Timken Aerospace UK, Ltd | Ball
Countervailing duty proceedings:
Belgium: Stainless Steel Plate in Coils, C-423-809: ALZ, N.V | 1/1/99-12/31/99
Italy: Stainless Steel Plate in Coils, C-475-823: Acciai Speciali Terni S.p.A | 1/1/99-12/31/99
Suspension Agreements: None.
² These orders are currently undergoing a “sunset” review pursuant to section 751(c) of the Act. If subsequent to publication of this initiation notice the orders should be revoked pursuant to “sunset,” any review (if initiated) or automatic liquidation instruction (if no review is initiated) will only cover through the last day prior to the effective date of revocation.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: June 30, 2000.
Holly A. Kuga,
Acting Deputy Assistant Secretary, Group II, for Import Administration.

[FR Doc. 00-17247 Filed 7-6-00; 8:45 am]

BILLING CODE 3510-DS-P